DEPARTMENT OF COMMERCE

International Trade Administration

(C-427-819)

Low Enriched Uranium from France: Notice of Amended Final Negative Determination Pursuant to Final Court Decision, Rescission of Administrative Review, and Revocation of the Countervailing Duty Order

AGENCY: Import Administration, International Trade Administration, Department of Commerce.

SUMMARY: On May 18, 2006, the United States Court of International Trade (“the CIT”) sustained the Department of Commerce's (“the Department's”) March 2, 2006, Final Results of Redetermination on Remand pursuant to Eurodif S.A., Compagnie Generale Des Matieres Nucleaires, and Cogema Inc., et. al. v. United States, Slip. Op. 06-3 (CIT, January 5, 2006), which pertains to the Final Affirmative Countervailing Duty Determination on Low Enriched Uranium (“LEU”) from France.

Because all litigation in this matter has concluded, the Department is issuing an amended final negative determination for LEU from France and revoking the countervailing duty (“CVD”) order. The Department is also rescinding the ongoing administrative review covering the period January 1, 2006, through December 31, 2006, and will not initiate the deferred administrative review covering the period January 1, 2005, through December 31, 2005.

EFFECTIVE DATE: June 8, 2006.

FOR FURTHER INFORMATION CONTACT: Kristen Johnson, AD/CVD Operations, Office 3, Import Administration, International Trade Administration, U.S. Department of Commerce, 14th Street and Constitution Avenue, NW, Washington, DC 20230; telephone: (202) 482-4793.

SUPPLEMENTARY INFORMATION:

Background

On December 21, 2001, the Department published a notice of final determination in the CVD investigation on LEU from France. See Notice of Final Affirmative Countervailing Duty Determination: Low Enriched Uranium from France, 66 FR 65901 (December 21, 2001) (“LEU Final Determination”) and accompanying Issues and Decision Memorandum. The LEU Final Determination was subsequently amended. See Amended Final Determination and Notice of Countervailing Duty Order: Low Enriched Uranium from France, 67 FR 6689 (February 13, 2002).

Eurodif, S.A., Compagnie Generale Des Matieres Nucleaires (“COGEMA”), and COGEMA Inc., et. al.¹ (collectively, “Eurodif” or “respondents”) challenged the Department's final determination before the CIT. The case was later appealed to the U.S. Court of Appeals for the Federal Circuit (“Federal Circuit”). The Federal Circuit ruled in favor of respondents in Eurodif S.A., Compagnie Generale Des Matieres Nucleaires, and Cogema Inc., et. al. v. United States, 411 F.3d 1355 (Fed. Cir. 2005) (“Eurodif I”). The court panel later clarified its ruling, issuing a decision in Eurodif S.A., Compagnie Generale Des Matieres Nucleaires, and Cogema Inc., et. al. v. United States, 423 F. 3d. 1275 (Fed. Cir. 2005) (“Eurodif II”), which affirmed Eurodif I.

¹ COGEMA and COGEMA Inc. are now known as AREVA NC and AREVA NC, Inc.

On January 5, 2006, the CIT remanded the case to the Department for action consistent with the decisions of the Federal Circuit in Eurodif I and Eurodif II. See Eurodif S.A., Compagnie Generale Des Matieres Nucleaires, and Cogema Inc., et. al. v. United States, Slip. Op. 06-3 (CIT, January 5, 2006) (“Remand Instructions”). In accordance with the CIT's instructions, the Department issued its final results of redetermination eliminating from the analysis of and calculations for the program “Purchases at Prices that Constitute More Than Adequate Remuneration” all SWU transactions. See the March 2, 2006, Final Results of Redetermination on Remand pursuant to Remand Instructions (“LEU Remand Redetermination”). As a result, there is no benefit or program rate for the program “Purchases at Prices that Constitute More Than Adequate Remuneration.” We, therefore, calculated a revised ad valorem subsidy rate for Eurodif for the period January 1, 1999, through December 31, 1999, based on the “Exoneration/Reimbursement of Corporate Income Taxes” program, which is the only other program determined to confer countervailable subsidies during the period of investigation. The revised net subsidy rate for Eurodif is 0.87 percent ad valorem, which is de minimis.

On May 18, 2006, the CIT sustained the Department's redetermination in all respects and, thus, affirmed the Department's revised analysis and calculations. On June 8, 2006, consistent with the decision of the Federal Circuit in Timken vs. United States, 893 F.2d 337 (Fed. Cir. 1990), the Department notified the public that the Eurodif I and Eurodif II decisions were not in harmony with the Department's final CVD determination for LEU from France. See Low Enriched Uranium from France: Notice of Court Decision and Suspension of Liquidation, 71 FR 33280 (June 8, 2006) (“LEU Timken Notice”). The LEU Timken Notice continued the suspension of liquidation, and further informed that if the CIT's decision was not appealed, or if appealed, and upheld, the Department would publish an amended final CVD determination. On July 17, 2006, USEC² filed a notice of appeal challenging the CIT's affirmation of the Department's remand determination. On February 9, 2007, the Federal Circuit affirmed the CIT's decision without a written opinion, pursuant to Rule 36 of the Court's rules. The deadline for filing a petition for certiorari with the Supreme Court has elapsed.

² United States Enrichment Corporation and USEC Inc. (“USEC”) are the petitioners.

Amended Final Determination, Revocation of Order, and Rescission of Review

Because there is now a final and conclusive decision in the court proceeding, we are amending the LEU Final Determination to reflect the results of the LEU Remand Redetermination, which is a revised countervailable subsidy rate of 0.87 percent ad valorem for Eurodif during the period of investigation, which is de minimis. Further, because Eurodif is the only known producer/exporter of the subject merchandise, we are revoking the CVD order for all entries effective May 14, 2001, the date on which the Department published the notice of preliminary affirmative CVD determination. See Notice of Preliminary Affirmative Countervailing Duty Determination and Alignment with Final Antidumping Duty Determination: Low Enriched Uranium from France, 66 FR 24325 (May 14, 2001).

Accordingly, the Department will instruct U.S. Customs and Border Protection (“CBP”) to terminate the suspension of liquidation, pursuant to section 705(c)(2)(A)(B) of the Tariff Act of 1930, as amended (“the Act”). Injunctions enjoining liquidation of entries subject to the CVD order remain in place for (1) entries on or after May 14, 2001, and on or before September 11, 2001, and on or after February 13, 2002, and on or before December 31, 2002,³ and (2) entries on or after January 1, 2003, and on or before December 31, 2003.⁴ Injunctions enjoining liquidations of entries subject to the companion antidumping order remain in place for (1) entries on or after July 13, 2001, and on or before January 8, 2002, and on or after February 13, 2002, and (2) entries on or after February 1, 2003, and on or before January 31, 2004.⁵ We will instruct CBP to liquidate all entries without regard to countervailing duties when the injunctions are lifted.

³ Court number 04-00392.

⁴ Court number 05-00456.

⁵ Court numbers 02-00219 and 05-00564.

In accordance with 19 CFR 351.213(d)(4), the Department is rescinding the ongoing administrative review covering the period January 1, 2006, through December 31, 2006. The Department will also not initiate the administrative review covering the period January 1, 2005, through December 31, 2005, for which a deferral was published in the Federal Register on March 28, 2007. See Initiation of Antidumping and Countervailing Duty Administrative Reviews, 72 FR 14516 (March 28, 2007).

This determination is published pursuant to sections 705(d), 751(a)(3)(C), and 777(i) of the Act.

Dated: May 21, 2007.
David M. Spooner,
Assistant Secretary for Import Administration.

[FR Doc. E7-10136 Filed 5-24-07; 8:45 am]

BILLING CODE 3510-DS-S